DEPARTMENT OF AGRICULTURE

Natural Resources Conservation Service

[Docket No. NRCS-2025-0004]

Proposed Revisions to the National Handbook of Conservation Practices for the Natural Resources Conservation Service

AGENCY: Natural Resources Conservation Service, U.S. Department of Agriculture.

ACTION: Notice of availability, request for comments.

SUMMARY: The Natural Resources Conservation Service (NRCS) is revising specific conservation practice standards (CPS) in the National Handbook of Conservation Practices (NHCP). NRCS is also giving the public an opportunity to provide comments on the proposed changes to the specific CPS.

DATES: We will consider comments that we receive by July 30, 2025.

ADDRESSES: We invite you to submit comments in response to this notice. You may submit your comments through one of the following methods below:

• Federal eRulemaking Portal: Go to http://www.regulations.gov and search for Docket ID NRCS-2025-0004. Follow the online instructions for submitting comments; or

• Mail or Hand Delivery: Mr. J'Que C. Jones, National Agricultural Engineer, Conservation Engineering Division, NRCS, USDA, 1400 Independence Avenue, South Building, Room 4949, Washington, DC 20250. In your comment, please specify the Docket ID NRCS-2025-0004.

All comments received will be made publicly available on http://www.regulations.gov.

The copies of the proposed revised standards are available through http://www.regulations.gov by accessing Docket No. NRCS-2025-0004. Alternatively, the proposed revised standards can be downloaded or printed from the https://www.nrcs.usda.gov/getting-assistance/conservation-practices.

FOR FURTHER INFORMATION CONTACT: Mr. J'Que C. Jones at (443) 926-6957, or by email at jque.jones@usda.gov. Individuals who require alternative means for communication should contact the USDA TARGET Center at (202) 720-2600 (voice and text telephone (TTY)) or dial 711 for Telecommunications Relay Service (both voice and text telephone users can initiate this call from any telephone).

SUPPLEMENTARY INFORMATION:

Background

NRCS plans to revise the CPS in the NHCP. This notice provides an overview of the planned changes and gives the public an opportunity to offer comments on the specific CPS and NRCS's proposed changes.

NRCS State Conservationists who choose to adopt these practices in their States will incorporate these practices into the respective electronic Field Office Technical Guide. These practices may be used in conservation systems that treat highly erodible land (HEL) or on land determined to be wetland. Section 343 of the Federal Agriculture Improvement and Reform Act of 1996 (Pub. L. 104-127) requires NRCS to make available for public review and comment all proposed revisions to CPS used to conduct HEL and wetland provisions of the law.

Revisions to the National Handbook of Conservation Practices

The amount of the proposed changes varies for each of the CPS addressed in this notice. To fully understand the proposed changes, individuals are encouraged to compare these changes with the current version for each standard, which can be found at: https://www.nrcs.usda.gov/resources/guides-and-instructions/conservation-practice-standards.

NRCS is requesting comments on the following CPS:

• Access Control (Code 472);

• Controlled Traffic Farming (Code 334);

• Irrigation Canal or Lateral (Code 320);

• Irrigation Ditch Lining (Code 428);

• Irrigation Field Ditch (Code 388);

• Open Channel (Code 582);

• Pest Management Conservation System (Code 595);

• Pumping Plant (Code 533);

• Waste Treatment Lagoon (Code 359);

• Waste Recycling (Code 633);

• Wildlife Habitat (Code 645).

The following paragraphs highlight some of the proposed changes to each standard:

Access Control (Code 472): Revised to add clarity, to align the purposes with resource concerns, and to clarify that the practice is used to protect sensitive areas and practice is not used to manage livestock. The general criteria information was incorporated into to the plans and specifications section.

Controlled Traffic Farming (Code 334): Only minor changes were made in this revision to simplify language in the “Definition, Practice Purpose, and the Conditions Where Practice Applies sections”. The term “tram lines” changed to traffic lanes. The “General Criteria” section received minor changes such as: removal of the axle weight and tire PSI as these are difficult for conservation planners to determine. Wording was also included to state this practice should be focused on the interior of the field production footprint with lesser emphasis on incidental turning at the ends of the field. Only minor wording changes were made to the “Considerations, Plans and Specifications, Operation and Maintenance” section. No Reference changes.

Irrigation Canal or Lateral (Code 320): Minor rewording edits were made throughout the standard to provide clarity and improve readability. A new subsection was added to address considerations for cultural resources. Revised the “Plans and Specifications” and “Consideration” sections to account for safety features and relationship between freeboard and overtopping.

Irrigation Ditch Lining (Code 428): The “Definition,” and “Purpose” sections of the standard were edited for clarity. A section on “Additional Criteria to Reduce Energy Use” was added. Revised the minimum required thickness for reinforced polyethylene and reinforced flexible polypropylene lining materials under the heading “Geosynthetic and semi‐rigid formed plastic” in the “Materials” subsection of “General Criteria Applicable to All Purposes” section. The “References” section was also updated. Minor rewording edits throughout the standard to improve readability.

Irrigation Fieldy Ditch (Code 388): Improved readability and added statements ensuring compliance with laws and regulations to the “General Criteria Application to All Purposes” subsection. Removed reference to Conservation Practice Standard (CPS) Open Channel (Code 582) within the “Capacity requirements” subsection since it does contain requirements pertaining to these criteria. Added new “Vegetation” subsections within “General Criteria” section. Updated “Spoil” subsection to reflect the name change of CPS Code 572 to “Spoil Disposal.” A new subsection was added to address considerations for cultural resources. In the “Cross section” subsection, clarified the freeboard requirement. A new consideration for overtopping was added to the “Consideration” section.

Open Channel (Code 582): Revised the “Purpose” section to clarify that the CPS will provide outlets to drainage systems and to protect or enhance wildlife habitat. Moved the statement of “In urban areas, consider the design impacts on high-value developments” from the “Criteria” section to the “Consideration” section. Removed the “Cultural Resources” section because the policies and regulations should not be repeated in CPS's. Minor revisions were made for clarity and readability purposes.

Pest Management Conservation System (Code 595): Reworded throughout to clarify statements that have caused confusion. Reworded purposes for air resource concerns. Clarified “Purpose” section to reduce emissions of volatile organic compounds is only applicable in ozone nonattainment areas. Included additional land uses: pasture, range, and forest. Updated “Reference” section to the updated Technical Note 5. Added reference to Prescribed Burning (CPS 338) when using it as a pest management technique in “General Criteria Applicable to All Purposes” section. Added the table of hazard rating categories and mitigation points needed in the “Additional Criteria to Reduce Pesticides Transported to Surface and Ground Waters” section. Separated the “Additional Criteria” into different sections. Refined the “Considerations” section and updated the “References” section.

Pumping Plant (Code 533): The revised standard expands the practice purpose to include fire suppression. Methods for gathering wind speed data were added to the “Windmills” subsection. Also, pump enclosure criteria were added to the “Buildings and accessories” subsection. Renamed “Photovoltaic panels” subsection to “Photovoltaic arrays” and established degradation rate criteria therein. Additionally, updates were made to the “Considerations” section to include opportunities for greenhouse gas emissions reduction and the use of water well yield capacity data. Further, minor rewording edits were made throughout the standard to improve readability.

Waste Treatment Lagoon (Code 359): The practice standard was updated to include requirements for foundation and embankments to improve consistency with conservation practice standard, waste Storage Facility (Code 313). A requirement was added to require a lagoon cover for lagoons used on operations with greater than 1000 animal units. Changes to the “Purposes” section were made to adequately align with resource concerns. Minor changes were made for clarity and to better describe the practice definition, purpose, criteria, and considerations. The “References” section was also updated.

Waste Recycling (Code 633): The document revisions are minor and include adding a new purpose, revising wording to clarify meaning, modifications to align with the current format requirements, NRCS general writing guidelines, and the Plain Language Act.

Wildlife Habitat (Code 645): This new standard combines Conservation Practice Standard 644 Wetland Wildlife Habitat Management and 645 Upland Wildlife Habitat Management. The title has been revised to “Wildlife Habitat Management” which articulates the use of this practice is appropriate on all land uses where habitat exists and can be managed. The updated version of the standard removes all habitat development actions and focuses on management actions, better aligning with the one-year lifespan.

USDA Non-Discrimination Policy

In accordance with Federal civil rights law and USDA civil rights regulations and policies, USDA, its agencies, offices, and employees, and institutions participating in or administering USDA programs are prohibited from discriminating based on race, color, national origin, religion, sex, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (e.g., braille, large print, audiotape, American Sign Language, etc.) should contact the responsible agency or USDA TARGET Center at (202) 720-2600 (voice and text telephone (TTY)) or dial 711 for Telecommunications Relay Service (both voice and telephone users can initiate this call from any phone). Additionally, program information may be made available in languages other than English.

To file a program discrimination complaint, complete the USDA Program Discrimination Complaint Form, AD-3027, found online at https://www.usda.gov/oascr/how-to-file-a-program-discrimination-complaint and at any USDA office or write a letter addressed to USDA and provide in the letter all the information requested in the form. To request a copy of the complaint form, call (866) 632-9992. Submit your completed form or letter to USDA by: (1) mail to: U.S. Department of Agriculture, Office of the Assistant Secretary for Civil Rights, 1400 Independence Avenue SW, Washington, DC 20250-9410; (2) fax: (202) 690-7442; or email: OAC@usda.gov.

USDA is an equal opportunity provider, employer, and lender.

Louis Aspey,
Associate Chief, Natural Resources Conservation Service.

[FR Doc. 2025-12056 Filed 6-27-25; 8:45 am]

BILLING CODE 3410-16-P